DEPARTMENT OF LABOR

Occupational Safety and Health Administration

[Docket No. C-08]

Nationwide Site-Specific Targeting (SST) Inspection Program

AGENCY: Occupational Safety and Health Administration, USDOL.

ACTION: Request for comments.

SUMMARY: The Occupational Safety and Health Administration (OSHA) is soliciting comments on its nationwide Site-Specific Targeting (SST) inspection program, which was first implemented in April 1999 and updated annually, in order to determine more accurately how this program is accomplishing its goal of effectively using OSHA's enforcement resources.

DATES: Written comments must be submitted on or before July 6, 2004.

ADDRESSES: Send two copies of your comments to Docket Office, Docket No. C-08, Room N-2625, Occupational Safety and Health Administration, U.S. Department of Labor, 200 Constitution Avenue, NW., Washington, DC 20210, Telephone: 202-693-2350. Comments of 10 pages or fewer may be faxed to the Docket Office at the following FAX number: 202-693-1648, provided that the original and one copy are sent to the Docket Office immediately thereafter.

You may also submit comments electronically to http://ecomments.osha.gov. Information such as studies and journal articles cannot be attached to electronic submissions and must be submitted in duplicate to the docket office address listed above. Such attachments must clearly identify the respondent's electronic submission by name, date, and subject, so that they can be attached to the correct submission.

FOR FURTHER INFORMATION CONTACT: Richard E. Fairfax, Occupational Safety and Health Administration, Directorate of Enforcement Programs, Room N-3119, U.S. Department of Labor, 200 Constitution Avenue, NW., Washington, DC 20210, Telephone 202-693-2100. For electronic copies, contact OSHA's Web page on the Internet at http://www.osha.gov.

SUPPLEMENTARY INFORMATION: The purpose of the Occupational Safety and Health Act is to assure, so far as possible, safe and healthful working conditions for every working man and woman in the nation. In order to achieve that goal, the Act requires employers to furnish their employees with employment which is free from recognized hazards that are likely to cause death or serious physical harm, and to comply with occupational safety and health standards issued by the Secretary of Labor. In order to determine whether employers are providing safe and healthful workplaces, OSHA conducts unannounced workplace inspections as part of the Agency's overall enforcement strategy.

Of the approximately 35,000 inspections OSHA conducts in a year, about 3,000 are Site-Specific Targeting (SST) inspections. The remaining inspections are imminent danger, fatality, catastrophe, complaint, referral, follow-up, and other programmed inspections. The other programmed inspections are mainly Emphasis Program inspections, which focus on a particular safety or health hazard (e.g., amputation, silica), or the hazards of a specific industry (e.g., logging, nursing homes).

Since 1996, OSHA has been using the annual OSHA Data Initiative survey to collect data from employers in an effort to better identify worksites for inspection. The Data Initiative gives OSHA a targeting tool it did not previously have: the ability to determine each surveyed worksite's Lost Work Day Injury and Illness (LWDII) rate.¹ Prior to the Data Initiative, OSHA targeted its compliance efforts on an industry-by-industry basis, relying on general industry-based data received from the Bureau of Labor Statistics (BLS) to determine where to focus its enforcement program and outreach efforts. Although industry data are extremely useful for identifying categories of problems (e.g., specific industries and occupations at risk, etc.), aggregation of data by industry masks the experience of individual employers. OSHA would not know until it arrived at an employer's facility whether the employer had a high injury-illness rate or not, only that the employer was in a high-rate industry. It was thought that using site-specific data would be a better approach. Therefore, in early 1996, the Data Initiative was established to give OSHA the capability to focus on those establishments with serious safety and health problems. The Data Initiative survey was initially sent to establishments that had 60 or more employees, but since 1999 the data surveys have been sent to establishments with 40 or more employees. Each year, OSHA sends its data survey form (the “OSHA Work-Related Injury and Illness Data Collection Form”) to approximately 80,000 non-construction establishments, requesting from each employer (1) the average number of employees who worked for the employer during the prior calendar year, (2) the total hours the employees worked during the prior year, and (3) the summary injury and illness data from the employer's OSHA Log form.

¹ Lost Workday Injury and Illness (LWDII) rate: This includes cases involving days away from work and restricted work activity and is calculated based on (N ÷ EH) × (200,000) where N is the number of lost work day injuries and illnesses combined; EH is the total number of hours worked by all workers during the calendar year; and 200,000 is the base for 100 full-time equivalent workers. For example: Workers of an establishment including management, temporary, and leased workers worked 645,089 hours at this worksite. There were 22 lost workday injuries and illnesses from the OSHA 200 (totals in columns 2 and 9). The LWDII rate would be (22 ÷ 645,089) × (200,000) = 6.8.

With the Data Initiative in place, in April 1999 OSHA implemented its first nationwide site-specific targeting plan (known as the SST) for comprehensive programmed inspections in non-construction worksites. This program applies only to Federal jurisdiction states and has also been updated annually.² For the most current SST go to OSHA's Web site at http://www.osha.gov and click on D in the alphabet at the top of the page, then Directives, then Information Date, and finally 2004, and scroll down to April and the current SST.

² The 1997 injury and illness data that was collected by the 1998 Data Initiative (survey) was used in the 1999 Site-Specific Targeting plan. Likewise, the 2002 data, collected by the 2003 Data Initiative, is currently being used for the 2004 Site-Specific Targeting plan.

The SST inspection plans are based on the self-reported injury and illness information submitted by employers in OSHA's Data Initiative. An LWDII rate is selected that will provide the number of establishments for SST inspections that OSHA anticipates it will be able to conduct during the year. From the data submitted, OSHA compiles two inspection targeting lists, a primary and a secondary list of non-construction worksites. The primary list for 1999 included the establishments that reported an LWDII at or above 16.0, which provided approximately 2,200 establishments for inspection. In 2000, and until 2004, the LWDII cut off was at or above 14.0, which provided 3,000 to 4,200 establishments. Each Federal OSHA Area Office receives a list of establishments for their primary targeting list, and is expected to complete inspections of these establishments in about a year. After an area office completes its primary list, the secondary list is used. The secondary list for 1999 included establishments that reported an LWDII of 10.0 or greater (but less than 16.0). In 2000, and until 2004, the secondary list included establishments reporting an LWDII of 8.0 or greater (but less than 14.0). To put these numbers in perspective, the national average LWDII rate for 2001 was 2.8—that is, a worksite with almost three injuries or illnesses resulting in lost work days for every 100 full-time workers.

Establishments selected for a site-specific inspection receive both a comprehensive safety and a comprehensive health inspection. Occasionally, if an employer has been greatly improving its safety and health performance, an SST inspection may be a “records only” inspection. That is, if the employer's LWDII rate, as calculated by the OSHA compliance officer during the inspection, shows the establishment to have a low LWDII rate for the last two consecutive years, then the compliance officer may confine the inspection to a review of the employer's safety and health records.

Beginning with the SST-03 plan, and continuing with the SST-04 plan, an additional factor was introduced to improve the selection of establishments for inspection. This factor is the establishment's Days Away from Work Injuries and Illness (DAFWII) case rate. The DAFWII is a component, or subset, of the LWDII. The DAFWII is comprised of injury and illness cases that involve at least one day away from work. The LWDII is comprised of cases that involve at least one day away from work or a day of restricted work activity. Under the assumption that an injury or illness which requires a day away from work is more serious than one which requires restricted work activity, using the DAFWII as a targeting criterion will further identify establishments with the greatest number of serious hazards. Therefore, under the SST-03 plan, if an establishment's LWDII rate is 14.0 or more, or its DAFWII case rate is 9.0 or more, it will be on the primary inspection list. Likewise, if an establishment's LWDII rate is 8.0 or greater (but less than 14.0), or its DAFWII case rate is 4.0 or greater (but less than 9.0), it will be on the secondary inspection list.

Due to changes in OSHA's recordkeeping regulations, which became effective January 1, 2002, the LWDII rate is being replaced by the Days Away from work, Restricted, or job Transfer (DART) rate starting with the workplace injury and illness data collected in 2002. The computation of the DART rate is almost identical to that of the LWDII.³

³ Days Away from work, Restricted, or job Transferred (DART) rate: This includes cases involving days away from work, restricted work activity, and transfers to another job. It is calculated based on (N ÷ EH) × (200,000) where N is the number of cases involving days away, and/or restricted work activity, and/or job transfer; EH is the total number of hours worked by all employees during the calendar year; and 200,000 is the base number of hours worked for 100 full-time equivalent employees. For example: Employees of an establishment including management, temporary, and leased workers worked 645,089 hours at this worksite. There were 22 injury and illness cases involving days away and/or restricted work activity and/or job transfer from the OSHA 300 Log (total of column H plus column I). The DART rate would be (22 ÷ 645,089) × (200,000) = 6.8.

The intention of the SST and the Data Initiative is to help OSHA make more effective use of its enforcement resources. In order to achieve OSHA's goal of reducing the number of injuries and illness that occur at individual worksites/establishments, the SST directs enforcement resources to those worksites where the highest rate of injuries and illnesses have occurred. OSHA seeks input from the public in order to determine more accurately how its annual nationwide targeting program is accomplishing its goal of effectively directing OSHA's enforcement resources. Any suggestions that would assist the Agency in improving the SST are welcome, as well as any information as to how the SST program is perceived by the employer and worker communities. Specifically: Are the LWDII/DART rate and the DAFWII case rate appropriate measurement tools for the SST? Should OSHA consider other measures for injury and illnesses at individual establishments? If yes, what measures should be considered? Should OSHA be looking at injury and illness data over multiple years rather than in a single year? Should an establishment's priority for inspection take into account whether the establishment is in an industry with a high rate or a low rate of citations? Should the SST include additional focuses such as on specific industries, or past citation history? Are there particular areas/hazards OSHA should be focusing its enforcement efforts on?

Authority: This document is issued under Sec. 8(a) and 8(b), Pub. L. 91-596, 84 Stat. 1599 (29 U.S.C. 657).

Signed in Washington, DC, this 27th day of April, 2004.
John L. Henshaw,
Assistant Secretary of Labor.

[FR Doc. 04-10316 Filed 5-5-04; 8:45 am]

BILLING CODE 4510-26-P